DEPARTMENT OF THE INTERIOR

Office of Wildland Fire Coordination

[FA 108 2810 HT 001R]

Notice of Meeting, Joint Fire Science Program Stakeholder Advisory Group

AGENCY: Office of Wildland Fire Coordination, Interior.

ACTION: Notice of meeting.

SUMMARY: The Joint Fire Science Program Stakeholder Advisory Group will have its initial meeting to assess past and current research and to identify priorities for future research. The meeting is open to the public.

DATES: The meeting will convene on Tuesday, June 19, 2001 at 8 a.m. and continue until 4:30 p.m. The meeting will resume Wednesday, June 20, from 8 a.m. to 3 p.m. Written material and requests to make oral presentations should reach the Department of the Interior, at the address below, on or before June 9, 2001.

ADDRESSES: The meeting will be held at the Best Western Salt Lake Plaza Hotel, 122 West South Temple, Room Heritage ½, Salt Lake City, Utah 84101; telephone: (801) 521-0130.

Written material and requests to make oral presentations should be sent to Tim Hartzell, Office of Wildland Fire Coordination, MS-2241-MIB, Department of the Interior, 1849 C Street, NW., Washington, DC 20240.

FOR FURTHER INFORMATION CONTACT: Tim Hartzell, Designated Federal Official; telephone (202) 606-3211; fax: (202) 606-3150; email: Tim_Hartzell@blm.gov.

SUPPLEMENTARY INFORMATION: Notice of this meeting is given under the Federal Advisory Committee Act, 5 U.S.C. App. 2. Additional information about the Joint Fire Science Program Stakeholder Advisory Group, including any revised agenda for the June 19 and 20 meeting that occurs after this Federal Register notice is published, may be found on the World Wide Web at http://www.nifc.gov/joint_fire_sci/SHAG/facaind.htm.

Draft Agenda of the June 19 and 20 Meeting

A. Welcome to Salt Lake City Meeting

1. Designated Federal Official

2. Chair, Joint Fire Science Program Governing Board

B. Introduction of Members

C. Review Stakeholder Advisory Group Charter, FACA Rules and Procedures

D. Review Previous and on-Going Joint Fire Science Program Work

E. Establish Short- and Long-Term Research Priority Recommendations for Governing Board

F. Public Input (Time will be reserved, before lunch and at the close of each daily session, to receive public comment. Individual presentations will be limited to 5 minutes).

This meeting is open to the public. At the discretion of the Designated Federal Official, members of the public may make oral presentations during the meeting. Persons wishing to make oral presentations should notify Tim Hartzell no later than June 9, 2001. If a person submitting material would like a copy distributed to each member of the committee in advance of the meeting, that person should submit 32 copies to Tim Hartzell no later than June 9, 2001.

Information on Services for Individuals With Disabilities

For information on facilities or services for individuals with disabilities, or to request special assistance at the meeting, contact Tim Hartzell.

Dated: May 21, 2001.
Tim C. Hartzell,
Director, Office of Wildland Fire Coordination.

[FR Doc. 01-13220 Filed 5-24-01; 8:45 am]

BILLING CODE 4310-DW-P